DEPARTMENT OF DEFENSE

Department of the Army; Corps of Engineers

Public Scoping Meeting and Preparation of Draft Environmental Impact Statement for Widening and Deepening of the Matagorda Ship Channel in Calhoun County and Matagorda County, TX

AGENCY: Department of the Army, U.S. Army Corps of Engineers, DoD.

ACTION: Notice of intent.

SUMMARY: The U.S. Army Corps of Engineers, Galveston District intends to prepare a Draft Environmental Statement (DEIS) to assess the social, economic and environmental effects of the proposed widening and deepening of the Matagorda Ship Channel. The DEIS will assess potential impacts of a range of alternatives, including the No Action and preferred alternatives. The Federal action is consideration of a Department of Army Permit application for work under section 10 of the Rivers and Harbors Act of 1899 (33 U.S.C. 403), section 404 of the clean Water Act (33 U.S.C. 1344), and section 102 of the Marine Protection Research and Sanctuary Act (33 U.S.C. 1412).

DATES: A public scoping meeting will be held on April 25, 2006, at 6 p.m.

ADDRESSES: The meeting will be held at the Bauer Community Center, 2300 N. Hwy. 35, Port Lavaca, TX 77979

FOR FURTHER INFORMATION CONTACT: Ms. Denise Sloan, Project Manager, by letter at U.S. Army Corps of Engineers, PO Box 1229, Galveston, Texas 77553, by telephone at (409) 766-3962, or by e-mail at denise.l.sloan@SWG02.usace.army.mil.

SUPPLEMENTARY INFORMATION: The Galveston District intends to prepare a DEIS on the proposed channel widening and deepening of the Matagorda Ship Channel, which extends approximately 27 miles from the Port of Port Lavaca-Port Comfort turning basin in Lavaca Bay through Matagorda Bay and offshore into the Gulf of Mexico. The Calhoun County Navigation District proposes this project.

1. Description of the Proposed Project: The Calhoun County Navigation District is proposing to widen and deepen the Matagorda Ship Channel as follows:

a. From Channel Station 118+502 to Channel Station 116+223, the Point Comfort turning basins will be deepened an additional 8 feet, to −44 feet Mean Low Tide (MLT);

b. Adjacent to the existing turning basins, a new turning basin and marine slip will be dredged to a depth of −44 feet MLT;

c. From Channel Station 116+223 to Channel Station 3+700 at the Matagorda Peninsula, the channel will be widened an additional 200 feet and deepened an additional 8 feet, to −44 feet MLT;

d. From Channel Station 3+700 to Channel Station −23+000 of the Outer Bar Channel, the channel will be widened an addtional 300 feet and deepened an additional 8 feet, to −46 feet MLT;

e. Approximately 48.9 million cubic yards of new work dredged material will be generated from the widening and deepening project; and

f. Approximately 316 million cubic yards of maintenance dredged material will be generated from the widened and deepened project during the 50-year planning period.

2. Scoping and Public Involvement Process: A scoping meeting to gather information on the subjects to be studied in detail in the DEIS will be conducted on (see DATES). An informal open house, allowing for review of the proposed project and questions and answers, will be conducted between 5 and 6 p.m., prior to the scoping meeting.

3. Significant Issues: Issues associated with the proposed project to be given significant analysis in the DEIS are likely to include, but may not be limited to, the potential impacts of the proposed dredging, dredged material placement, the beneficial uses of dredged material, water quality, fish and wildlife values including threatened and endangered species; air quality; environmental justice; socioeconomic environment; archaeological and cultural resources; recreation and recreational resources; energy supply and natural resources; hazardous waste and materials; aesthetics; public health and safety; navigation; shoreline erosion and accretion; cumulative impacts, and the needs and welfare of the people.

4. Technical Review and Consultation: Several State and Federal Agencies will be invited to provide technical review of the DEIS. Those agencies include: the Environmental Protection Agency, the National Marine Fisheries Service, the United States Fish and Wildlife Service, the United States Coast Guard, the Texas Commission on Environmental Quality, the Texas General Land Office, the Texas Parks and Wildlife Department and the Texas Department of Transportation.

5. Additional Review and Consultation: Additional review and consultation that will be incorporated into the preparation of this DEIS will include: Compliance with the Texas Coastal Management Program; protection of cultural resources under Section 106 of the National Historic Preservation Act; protection of navigation under the Rivers and Harbors Act of 1899; protection of water quality under section 401 of the Clean Water Act; protection of air quality under the Clean Air Act; and protection of endangered and threatened species under section 7 of the Endangered Species Act.

6. Availability of the DEIS: The Draft Environmental Impact Statement is projected to be available in August 2006. At this time the Galveston District plans to conduct a Public Hearing following the release of the DEIS.

Brenda S. Bowen,
Army Federal Register Liaison Officer.

[FR Doc. 06-2861 Filed 3-23-06; 8:45 am]

BILLING CODE 3710-52-M